DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with September anniversary dates. In accordance with Commerce's regulations, we are initiating those administrative reviews.

DATES: Applicable December 8, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with September anniversary dates. All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our respondent selection decision within 35 days of the Federal Register publication of the initiation notice. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than September 30, 2026.⁴

⁴ Due to the lapse in appropriations and Federal Government shutdown, on November 14, 2025, Commerce tolled all deadlines in administrative proceedings by 47 days. See Memorandum, “Deadlines Affected by the Shutdown of the Federal Government,” dated November 14, 2025. Additionally, due to a backlog of documents that were electronically filed via Enforcement and Compliance's Antidumping and Countervailing Duty Centralized Electronic Service System (ACCESS) during the Federal Government shutdown, on November 24, 2025, Commerce tolled all deadlines in administrative proceedings by an additional 21 days. See Memorandum, “Tolling of all Case Deadlines,” dated November 24, 2025.

| Period to be reviewed
AD Proceedings
INDIA: Certain Lined Paper Products, A-533-843 | 9/1/24-8/31/25
Cellpage Ventures Private Limited
Dinakar Process Private Limited
ITC Limited ⁵
JC Stationery (P) Ltd
Kokuyo Riddhi Paper Products Private Limited
Lotus Global Private Limited
M/s. Bhaskar Paper Products
Navneet Education Ltd.
Pioneer Stationery Private Limited
PP Bafna Ventures Private Limited
SAB International
SGM Paper Products
Super Impex
INDIA: Mattresses, A-533-919 | 3/1/2024-8/31/25
Charles Fibres Private Limited
Cocomats International
Duroflex Private Limited
Manglam Arts
Parshva Mattress and Foam
Raj Mahal Fabrics
Sheela Foam Limited
Varahamurti Flexirub Industries Pvt. Ltd.
ISRAEL: Brass Rod, A-508-814 | 12/14/23-8/31/25
Finkelstein Metals Ltd.
MEXICO: Heavy Walled Rectangular Welded Carbon Steel Pipes and Tubes, A-201-847 | 9/1/24-8/31/25
Aceros del Toro S.A. de C.V.
Aceros El Fraile S.A. de C.V.
Arco Metal S.A. de C.V.
Border Assembly S. de R.L. de C.V.
Buffalo Tube S.A. de C.V.
Fortacero S.A. de C.V.
Forza Steel S.A. de C.V.
Grupo Collado S.A. de C.V.
Industrias Monterrey, S.A. de C.V.
Maquilacero S.A. de C.V.
P.J. Trailers Company S.A. de C.V.
Perfiles y Herrajes LM S.A. de C.V.
Placa y Fierro de Monterrey S.A. de C.V.
Productos Laminados de Monterrey S.A. de C.V.
PYTCO S.A. de C.V.
Regiomontana de Perfiles y Tubos S.A. de C.V.
Ternium S.A. de C.V.
Tuberia Nacional, S.A. de C.V.
Tuberias Procarsa S.A. de C.V.
MEXICO: Mattresses, A-201-859 | 3/1/24-8/31/25
Abastecedora de Colchones y Accesorios S.A. de C.V.
Artaban Therapedic S.A. de C.V.
Baja Fur S.A. de C.V.
Blaco Export S.A. de C.V.
Espumas de Oriente S.A. de C.V.
Espumas Industriales Monterrey S..A de C.V.
Flexifoam S.A. de C.V.
Furniture Manufacturing International S. de R.L. de C.V.
Hill-rom de México S. de R.L. de C.V.
Ikano Industry México
JHC de México S. de R.L. de C.V.
Kuka Sleep S.A. de C.V.
Lester, SA de CV
Operacion de Calidad S. de R.L. de C.V.
Rasmussen de Tecate S.A. de C.V.
Rogers Foam México S. de R.L. de C.V.
Servicios de Fabricas International S. de R.L. de C.V.
Ship321 S.A. de C.V.
Ureblock S.A. de C.V.
Welldex Distribution, S.A. de C.V.
REPUBLIC OF KOREA: Certain Cold-Rolled Steel Flat Products, A-580-881 | 9/1/24-8/31/25
AJU Steel Co., Ltd.
Ameri-Source Korea
Dai Yang Metal Co., Ltd.
DCM Corporation
DK GNS Co., Ltd.
Dongbu Incheon Steel Co., Ltd.
Dongbu Steel Co., Ltd.
Dongkuk Industries Co., Ltd.
Dongkuk Steel Mill Co., Ltd.
GS Global Corporation
Hanawell Co., Ltd.
Hankum Co., Ltd.
Hwashin Co. Ltd.
Hyosung TNC Corporation
Hyundai Corporation
Hyundai Steel Company
JMP Co., Ltd.
KG Dongbu Steel Co., Ltd.
Korinox Co., Ltd.
Mikwang Precision Manufacture Co., Ltd.
Okaya Korea Co., Ltd.
POSCO; POSCO International Corporation
POSCO Coated and Colored Steel Co., Ltd.
Samhwan Steel Co., Ltd.
Samsung C & T Corporation
Samsung Electronics Co., Ltd.
Samsung STS Co., Ltd.
SeAH Changwon Integrated Special Steel Corporation
SeAH Coated Metal Corporation
SeAH Steel Corporation
Shin Steel Co., Ltd.
Shin Young Co., Ltd.
Signode Korea Inc.
SK Networks Co., Ltd.
Soon Hong Trading Co., Ltd.
Sungjin Co., Ltd.
Taesan Corporation
TCC Steel Corporation
TI Automotive Ltd.
Wolverine Korea Co., Ltd.
REPUBLIC OF KOREA: Certain Oil Country Tubular Goods, A-580-870 | 9/1/24-8/31/25
AJU Besteel Co., Ltd.
Dong-A Steel Co., Ltd.
HiSteel Co., Ltd.
Husteel Co., Ltd.
Hyundai Steel Company
ILJIN Steel Corporation
K Steel Corporation on Behalf of MS
Keonwoo Metals Co., Ltd.
Kukje Steel Co., Ltd.
Kumkang Kind Co., Ltd.
MSTEEL Co., Ltd.
NEXTEEL Co. Ltd.
Nissei Trading Co., Ltd.
POSCO International Corporation
SeAH Steel Corporation
Sung Won Steel Co., Ltd.
TGS Pipe Co. Ltd.
REPUBLIC OF KOREA: Heavy Walled Rectangular Welded Carbon Pipes and Tubes, A-580-880 | 9/1/24-8/31/25
Dong-A Steel Co., Ltd.
HiSteel Co., Ltd.
Kukje Steel Co., Ltd.
NEXTEEL Co., Ltd.
SeAH Steel Corporation
SOCIALIST REPUBLIC OF VIETNAM: Certain Oil Country Tubular Goods, A-552-817 | 9/1/24-8/31/25
SeAH Steel VINA Corporation
Pusan Pipe America, Inc.
SOCIALIST REPUBLIC OF VIETNAM: Frozen Fish Fillets,⁶ A-552-801 | 8/1/24-7/31/25
Minh Tam Seafoods Import Export Company
Vinh Hoan Corporation; Van Duc Food Export Joint Stock Company (also known as Van Duc); Van Duc Tien Giang Food Export Company (also known as VDTG or Van Duc Tien Giang Food Exp. Co.); Thanh Binh Dong Thap One Member Company Limited (also known as Thang Binh Dong Thap or Thanh Binh Dong Thap Ltd.); Vinh Phuoc Food Company Limited (also known as Vinh Phuoc or VP Food) ⁷
SPAIN: Methionine, A-469-822 | 9/1/24-8/31/25
Adisseo Espana S.A.
TAIWAN: Forged Steel Fittings, A-583-863 | 9/1/24-8/31/25
Both-Well Steel Fittings, Co., Ltd
THE PEOPLE'S REPUBLIC OF CHINA: Certain Freight Rail Couplers and Parts Thereof, A-570-145 ⁸ | 7/1/24-6/30/25
THE PEOPLE'S REPUBLIC OF CHINA: Certain Magnesia Carbon Bricks, A-570-954 | 9/1/24-8/31/25
Autong Industry Co., Ltd.
Beijing Holland Co., Ltd.
Beijing Intercontinental Trading Co., Ltd.
Dandong Xinxing Carbon Co., Ltd
Dashiqiao Sanqiang Refractory Co., Ltd.
Fengchi Imp. and Exp. Co., Ltd.
Fengchi Imp. and Exp. Co., Ltd. of Haicheng City
Fengchi Mining Co., Ltd. of Haicheng City
Fengchi Refractories Co., of Haicheng City
Haicheng Donghe Taidi Refractory Co., Ltd.
Henan Hongtai Kiln Refractory Co., Ltd.
Henan Xintuo Refractory Co., Ltd.
Kehantek, Ltd.
Liaoning Fucheng Refractories
Liaoning Zhongmei High Temperature Material Co., Ltd.
Liaoning Zhongmei Holding Co., Ltd.
Luoyang Dayang High-Performance Material Co., Ltd.
Orind Special Refractories Pvt. Ltd.
Puyang Refractories Co., Ltd.
Puyang Refractories Group Co., Ltd.
Qingdao Wonjin Special Refractory Material Co., Ltd.
RHI Refractories Liaoning Co., Ltd.
Seawon Trading Company Limited
Shandong Minye Refractory Fibre Co., Ltd.
Shandong Refractories Group Co., Ltd.
Shanxi Xinrong International Trade Co., Ltd.
Shenglong Refractories Co., Ltd.
Sinosteel Luoyang Institute Of Refractories Research Co., Ltd.
Tangshan Strong Refractories Co., Ltd.
The Economic Trading Group Of Haicheng Houying Corp. Ltd.
Thermstrong Corporation
Tianjin New Century Refractories Co., Ltd.
Wonjin Refractory Co., Ltd.
Wugang Refractory Co., Ltd.
Xinyi New Century Refractories Co., Ltd.
Yingkou Baolong Industrial Co., Ltd.
Yingkou Guangyang Refractories Co., Ltd.
Yingkou Heping Samwha Minerals, Co., Ltd.
Yingkou Heping Sanhua Materials Co., Ltd.
Yingkou Hongyu Wonjin Refractory Material Co., Ltd.
Yingkou Jiamei Refractories Co., Ltd.
Yingkou Mei'ao Mining Product Co., Ltd.
Yingkou Qinghua Group Import & Export Co., Ltd.
Zhengzhou Rongsheng Import And Export Co., Ltd.
Zhengzhou Rongsheng Refractory Co., Ltd.
Zhongfu Metallurgical Materials Co., Ltd.
Zibo Fubang Wonjin Refractory Technology Co., Ltd.
Zibo Hengsen Refractory Co., Ltd.
Zibo Hitech Material Co., Ltd.
Zibo Jiuqiang Refractory Co., Ltd.
Zibo Soaring Refractory & Insulation Materials Co., Ltd.
THE PEOPLE'S REPUBLIC OF CHINA: Steel Racks, A-570-088 | 9/1/24-8/31/25
Ateel Display Industries (Xiamen) Co., Ltd
Changzhou Tianyue Storage Equipment Co., Ltd
CTC Universal (Zhangzhou) Industrial Co., Ltd
David Metal Craft Manufactory Ltd
Fujian Ever Glory Fixtures Co., LTD
Fujian First Industry and Trade Co., Ltd
Guangdong Wireking Housewares and Hardware Co., Ltd
Hebei Minmetals Co., Ltd
Hebei Nova Intelligent Logistics Equipment Co., Ltd
Hebei Wuxin Garden Products Co., Ltd
Huanghua Hualing Hardware Products Co., Ltd
Huanghua Xingyu Hardware Products Co., Ltd
Huanghua Xinxing Furniture Co., Ltd
Huangua Haixin Hardware Products Co., Ltd
Huangua Qingxin Hardware Products Co., Ltd
i-Lift Equipment Ltd
Jiangsu Baigeng Logistics Equipments Co., Ltd
Jiangsu JISE Intelligent Storage Equipment Co., Ltd
Jiangsu Kingmore Storage Equipment Manufacturing Co., Ltd.
Jiangsu Nova Intelligent Logistics Equipment Co., Ltd
Johnson (Suzhou) Metal Products Co., Ltd
Master Trust (Xiamen) Import and Export Co., Ltd
Nanjing Dongsheng Shelf Manufacturing Co., Ltd
Nanjing Ironstone Storage Equipment Co., Ltd
Nanjing Jinshidai Storage Equipment Co., Ltd.
Nanjing Kingmore Logistics Equipment Manufacturing Co., Ltd
Ningbo Beilun Songyi Warehouse Equipment Manufacturing Co., Ltd.
Ningbo Jiabo Rack Co., Ltd.
Ningbo Lede Hardware Co., Ltd
Ningbo Xinguang Rack Co., Ltd
Qingdao Rockstone Logistics Appliance Co., Ltd
Redman Corporation
Redman Import & Export Limited
Suzhou (China) Sunshine Hardware & Equipment Imp. & Exp. Co. Ltd.
Tianjin Master Logistics Equipment Co., Ltd
Waken Display System Co., Ltd
Xiamen Baihuide Manufacturing Co., Ltd
Xiamen Ever Glory Fixtures Co., Ltd
Xiamen Golden Trust Industry & Trade Co., Ltd
Xiamen Huiyi Beauty Furniture Co., Ltd
Xiamen Kingfull Imp and Exp Co., Ltd. (d.b.a) Xiamen Kingfull Displays Co., Ltd
Xiamen LianHong Industry and Trade Co., Ltd
Xiamen Luckyroc Industry Co., Ltd
Xiamen Luckyroc Storage Equipment Manufacture Co., Ltd
Xiamen Meitoushan Metal Product Co., Ltd
Xiamen Power Metal Display Co., Ltd
Xiamen XinHuiYuan Industrial & Trade Co., Ltd
Xiamen Yiree Display Fixtures Co., Ltd
Yuanda Storage Equipment Ltd
Zhangjiagang Better Display Co., Ltd
Zhangzhou Hongcheng Hardware & Plastic Industry Co., Ltd.
UNITED KINGDOM: Certain Cold-Rolled Steel Flat Products, A-412-824 | 9/1/24-8/31/25
Liberty Performance Steels Ltd.
Tata Steel UK Ltd.
CVD Proceedings
INDIA: Certain Lined Paper Products, C-533-844 | 1/1/24-12/31/24
PP Bafna Ventures Private Limited
Super Impex
ISRAEL: Brass Rod, C-508-815 | 9/29/23-12/31/24
Finkelstein Metals Ltd.
REPUBLIC OF KOREA: Certain Cold-Rolled Steel Flat Products, C-580-882 | 1/1/24-12/31/24
AJU Steel Co., Ltd.
Amerisource Korea
BC Trade
Busung Steel Co., Ltd.
Cenit Co., Ltd.
Daewoo Logistics Corp.
Dai Yang Metal Co., Ltd.
DK GNS Co., Ltd.
Dongbu Incheon Steel Co., Ltd.
Dongbu Steel Co., Ltd.
Dong Jin Machinery
Dongkuk Industries Co., Ltd.
Dongkuk Steel Mill Co., Ltd.
Eunsan Shipping and Air Cargo Co., Ltd.
Euro Line Global Co., Ltd.
Golden State Corp.
GS Global Corp.
Hanawell Co., Ltd.
Hankum Co., Ltd.
Hyosung TNC Corp.
Hyuk San Profile Co., Ltd.
Hyundai Group
Hyundai Steel Company
Iljin NTS Co., Ltd.
Iljin Steel Corp.
Jeen Pung Industrial Co., Ltd.
JS Steel Co., Ltd
JT Solution
KG Dongbu Steel Co., Ltd. (formerly Dongbu Steel Co., Ltd.)
Kolon Global Corporation
Nauri Logistics Co., Ltd.
Okaya (Korea) Co., Ltd.
PL Special Steel Co., Ltd.
POSCO; POSCO International Corporation
POSCO C&C Co., Ltd.
POSCO Daewoo Corp.
Samsung C&T Corp.
Samsung STS Co., Ltd.
SeAH Steel Corp.
SM Automotive Ltd.
SK Networks Co., Ltd.
Taihan Electric Wire Co., Ltd.
TGS Pipe Co., Ltd.
TI Automotive Ltd.
Topco Global Co., Ltd.
Union Steel Co., Ltd.
Xeno Energy
Young Steel Co., Ltd.
REPUBLIC OF TÜRKIYE: Certain Oil Country Tubular Goods, C-489-817 | 1/1/24-12/31/24
Borusan Birleşik Boru Fabrikalari Sanayi ve Ticaret A.Ş
THE PEOPLE'S REPUBLIC OF CHINA: Steel Racks, C-570-089 | 1/1/24-12/31/24
Ateel Display Industries (Xiamen) Co., Ltd.
Changzhou Olive Textiles Co. Ltd.
CTC Universal (Zhangzhou) Industrial Co., Ltd.
David Metal Craft Manufactory Ltd.
Fujian Ever Glory Fixtures Co., Ltd.
Guangdong Wireking Housewares and Hardware Co., Ltd.
Hebei Wuxin Garden Products Co., Ltd.
Huanghua Xinxing Furniture Co., Ltd.
i-Lift Equipment Ltd.
Jiangsu Stars International Group
Jiangsu Starshine Industry Equipment Co., Ltd.
Jishui Fengyi Supply Chain Management Co., Ltd.
Johnson (Suzhou) Metal Products Co., Ltd.
Master Trust (Xiamen) Import and Export Co., Ltd.
Nanjing Dongsheng Shelf Manufacturing Co., Ltd
Nanjing Ironstone Storage Equipment Co., Ltd.
Nanjing Kingmore Logistics Equipment Manufacturing Co., Ltd.
Nanjing Urgo Logistics Equipment Co., Ltd.
Ningbo Xinguang Rack Co., Ltd.
Redman Corporation
Redman Import & Export Limited
Shenzhen Top China Imp. & Exp. Co., Ltd.
Suzhou (China) Sunshine Hardware & Equipment Imp. & Exp. Co. Ltd.
Tianjin Master Logistics Equipment Co., Ltd.
Xiamen Baihuide Manufacturing Co., Ltd.
Xiamen Ever Glory Fixtures Co., Ltd.
Xiamen Golden Trust Industry & Trade Co., Ltd.
Xiamen Kingfull Imp and Exp Co., Ltd. (d.b.a) Xiamen Kingfull Displays Co., Ltd.
Xiamen LianHong Industry and Trade Co., Ltd.
Xiamen Luckyroc Industry Co., Ltd.
Xiamen Luckyroc Storage Equipment Manufacture Co., Ltd.
Xiamen Meitoushan Metal Products Co., Ltd.
Xiamen Power Metal Display Co., Ltd.
Xiamen XinHuiYuan Industrial & Trade Co., Ltd.
Xiamen Yiree Display Fixtures Co., Ltd.
Zhangjiagang Better Display Co., Ltd
Zhuxi County Xinyu Trading Co. Ltd.

Suspension Agreements

⁵ Though the request for review included “ITC Limited-Education and Stationary Products Business,” the correct name of the company is ITC Limited. See Certain Lined Paper Products from India: Final Results of Antidumping Duty Administrative Review; 2022-2023, 90 FR 13852 (March 27, 2025). “ITC Limited-Education and Stationary Products Business,” is a division of ITC Limited, and not a legal entity.

⁶ In the initiation notice published on September 25, 2025 (90 FR 46173), Commerce inadvertently omitted Minh Tam Seafoods Import Export Company and footnote 6. Both are now included here.

⁷ This initiation excludes certain fish fillets from the Socialist Republic of Vietnam produced and exported to the United States by these producers and exporters. Specifically, both the producer and exporter must be a company identified here for the exclusion to apply. The exclusion does not apply to subject merchandise produced by one of these companies but exported by a company not identified here. Similarly, the exclusion does not apply to subject merchandise exported by one of the companies identified here but produced by a company not identified.

⁸ In the initiation notice that published on August 22, 2025 (90 FR 41043), Commerce inadvertently listed TXX Company as a company under administrative review. Commerce hereby clarifies that TXX Company should have been listed as TTX Company. Further, we note that in the August initiation notice we initiated reviews for Amsted Rail Company, Inc., Freightcar America, Greenbrier Central LLC, Strato, Inc., Trinity Industries, TTX Company and Wabtec Corporation. All of these companies appear to be U.S. importers and as such are not subject to administrative review. Thus, we hereby correct the August initiation notice and remove these companies from the August initiation notice.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁹ available at https://www.govinfo.gov/content/pkg/FR-2013-07-17/pdf/2013-17045.pdf, prior to submitting factual information in this segment. Note that Commerce has amended certain of its requirements pertaining to the service of documents in 19 CFR 351.303(f).¹⁰

⁹ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁰ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹¹ Commerce intends to reject factual submissions in any proceeding segments if the submitting party does not comply with applicable certification requirements.

¹¹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹² In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹² See 19 CFR 351.302.

Notification to Interested Parties

These initiations and this notice are in accordance with section 751(a) of the Act (19 U.S.C. 1675(a)) and 19 CFR 351.221(c)(1)(i).

Dated: December 3, 2025.
Scot Fullerton,
Acting Deputy Assistant Secretary for Antidumping and Countervailing Duty Operations.

[FR Doc. 2025-22202 Filed 12-5-25; 8:45 am]

BILLING CODE 3510-DS-P